DEPARTMENT OF THE INTERIOR

National Park Service

Off-Road Vehicle Management Plan (ORV Management Plan), Environmental Impact Statement (EIS), Lake Meredith National Recreation Area, Texas

AGENCY: National Park Service, Department of the Interior.

ACTION: Notice of Intent To Prepare an Environmental Impact Statement (EIS) for an Off-Road Vehicle Management Plan (ORV Management Plan) for Lake Meredith National Recreation Area, Texas.

SUMMARY: Pursuant to the National Environmental Act of 1969, 42 U.S.C. 4332(2)(C), the National Park Service is preparing an Environmental Impact Statement for an Off-Road Vehicle Management Plan (ORV Management Plan) for Lake Meredith National Recreation Area, Texas. This effort will result in an ORV Management Plan/EIS that will be used to guide the management and control of ORVs at the Recreation Area for approximately the next 15 to 20 years. It will also form the basis for a special regulation that will regulate ORV use at the Recreation Area. The ORV Management Plan/EIS will assess potential environmental impacts associated with a range of reasonable alternatives for managing ORV impacts on park resources such as soils, wetlands, wildlife, cultural resources, visitor experience, and public safety.

Lake Meredith Recreation Area was established in 1964 for the administration of public recreational facilities at the Sanford Reservoir area, Canadian River project, Texas. In 1990 Congress designated Lake Meredith a National Recreation Area to “provide for public outdoor recreation use and enjoyment of the lands and waters associated with Lake Meredith in the State of Texas, and to protect the scenic, scientific, cultural, and other values contributing to the public enjoyment of such lands and waters,” (Pub. L. 101-628, 16 U.S.C. 46Oeee, November 28, 1990). Lake Meredith offers many recreational uses including boating, swimming, fishing, hunting and ORV use. Lake Meredith currently has two areas designated as ORV areas, Rosita (~1,740 acres) and Blue Creek (~275 acres). These areas were designated by special regulation, 36 CFR 7.57. Both areas were utilized by the local community for recreational use prior to the establishment of the Sanford Reservoir Project in 1965.

Executive Order 11644, issued in 1972 and amended by Executive Order 11989 in 1977, states that Federal agencies allowing ORV use must designate the specific areas and trails on public lands on which the use of ORVs may be permitted, and areas in which the use of ORVs may not be permitted. Agency regulations to authorize ORV use provide that designation of such areas and trails will be based upon the protection of the resources of the public lands, promotion of the safety of all users of those lands, and minimization of conflicts among the various uses of those lands. Executive Order 11644 was issued in response to the widespread and rapidly increasing use of ORVs on the public lands—“often for legitimate purposes but also in frequent conflict with wise land and resource management practices, environmental values, and other types of recreational activity.” Code of Federal Regulations (CFR) 36 § 4.10 requires that “Routes and areas designated for off-road motor vehicle use shall be promulgated as special regulations.” “In addition, such routes and areas may only be designated in national recreation areas, national seashores, national lakeshores and national preserves.” Therefore, in accordance with the Executive Order, the purpose of this plan/EIS is to manage ORV use in compliance with the Recreation Area's enabling legislation, NPS management policies, and other laws and regulations to ensure protection of the natural, cultural, and recreational values of the Recreation Area's environment for present and future generations.

An ORV Management Plan is needed to address the inconsistent management of ORV use over time, address the impacts to both cultural and natural resources, and address ORV use outside of the authorized areas. Specifically, an ORV Management Plan is needed to: (1) Comply with Executive Orders 11644 and 11989 respecting ORV use, and with NPS laws, regulations (36 CFR 4.10), and policies to minimize impacts to Recreation Area resources and values; (2) Provide for sustainable recreational ORV use areas; (3) Address the lack of an approved plan, which has led to ORV use outside of authorized areas; (4) Address resource impacts resulting from ORV use; and (5) Address the change in numbers, power, range and capabilities of ORVs. The ORV Management Plan/DEIS will cover all lands administered by the NPS at the Recreation Area.

Through internal scoping efforts, several draft objectives were outlined for the EIS:

Visitor Use and Safety: Manage ORV use to minimize conflicts among different ORV users; promote safe operation of ORVs and safety of all visitors.

Management: Build stewardship through public awareness and understanding of NPS resource management and visitor use policy and responsibilities as they pertain to the recreation area and ORV management; develop a monitoring plan that allows the park to establish the number of ORVs the park is able to support.

Park Operations: Identify needs and costs necessary to implement an ORV plan; minimize impacts to park operations and costs necessary to implement an ORV plan.

Natural Resources: Minimize adverse impacts to threatened, endangered, and other protected species and their habitats; define effective strategies for soil erosion control and restoration of plant resources to support wildlife populations.

Cultural Resources: Preserve and protect significant cultural resources within the recreation area; work with interested parties to identify cultural resources that could be adversely affected by ORV use.

The draft and final ORV Management Plan/EIS will be made available to all known interested parties and appropriate agencies. Full public participation by Federal, State, and local agencies as well as other concerned organizations and private citizens is invited throughout the preparation process of this document.

DATES: The Park Service will accept comments from the public through July 11, 2008. To determine the scope of issues to be addressed in the ORV Management Plan/EIS and to identify significant issues related to the ORV management at the Recreation Area, NPS will be conducting public scoping meetings on July 8, 9, and 10, 2008. The NPS is planning to conduct the three meetings in Fritch, Dumas, and Amarillo, Texas, respectively. Representatives of the NPS will be available to discuss issues, resource concerns, and the planning process at each of the public meetings. The locations, times, and dates of the public meetings will be published in local newspapers and posted on the NPS Planning, Environment, and Public Comment (PEPC) Web site at http://parkplanning.nps.gov/LAMR.

ADDRESSES: Written comments or requests for information should be addressed to Superintendent, Cindy Ott-Jones, Lake Meredith National Recreation Area, Alibates Flint Quarries National Monument, P.O. Box 1460, Fritch, Texas 79036-1460. In addition, comments may be entered on-line in the NPS PEPC Web site at http://parkplanning.nps.gov/LAMR. To comment using PEPC, select the “Lake Meredith National Recreation Area ORV Management Plan and Regulation” project, select “documents,” select this “Notice of Intent,” and then select “comment” and enter your comments. Further information about this project may also be found on the PEPC Web site listed above, including links to information about the NEPA planning process.

FOR FURTHER INFORMATION CONTACT: Superintendent, Cindy Ott-Jones, Lake Meredith National Recreation Area, Alibates Flint Quarries National Monument, P.O. Box 1460, Fritch, Texas 79036, by e-mail at Cindy Ott-Jones@nps.gov.

SUPPLEMENTARY INFORMATION: If you wish to comment on this project, you may submit your comments by any one of several methods. You may mail comments to Office of the Superintendent, Lake Meredith National Recreation Area and Alibates Flint Quarries National Monument, P.O. Box 1460, Fritch, Texas 79036-1460. You may also comment via the Internet at http://parkplanning.nps.gov. If you do not receive a confirmation from the system that we have received your Internet message, contact the park directly at Office of the Superintendent, Cindy Ott-Jones at 806-857-3151. Finally, you may hand-deliver comments to Lake Meredith National Recreation Area and Alibates Flint Quarries National Monument, 419 E. Broadway, Fritch, Texas 79036.

Before including your address, phone number, e-mail address, or other personal identifying information in your comment, you should be aware that your entire comment—including your personal identifying information—may be made publicly available at any time. While you can ask us in your comment to withhold your personal identifying information from public review, we cannot guarantee that we will be able to do so.

Date: May 28, 2008.
John T. Crowley,
Acting Regional Director, Intermountain Region, National Park Service.

[FR Doc. E8-12839 Filed 6-10-08; 8:45 am]

BILLING CODE 4310-3A-M